DEPARTMENT OF STATE

[Notice Number 3610]

Shipping Coordinating Committee; Notice of Meeting

The Shipping Coordinating Committee will conduct an open meeting at 9:30 a.m. on Thursday, May 24, 2001, in Room 2415, at U.S. Coast Guard Headquarters, 2100 2nd Street, SW., Washington, DC, 20593-0001. The purpose of this meeting will be to finalize preparations for the 74th Session of the Maritime Safety Committee, and associated bodies of the International Maritime Organization (IMO), which is scheduled for May 30—June 8, 2001, at IMO Headquarters in London. At this meeting, papers received and the draft U.S. positions will be discussed.

Among other things, the items of particular interest are:

—Large passenger ship safety

—Adoption of amendments to the International Convention for the Safety of Life at Sea (SOLAS)

—Bulk carrier safety

—Implementation of the revised International Convention on Standards of Training, Certification and Watchkeeping for Seafarers (STCW)

—Piracy and armed robbery against ships

—Reports of seven subcommittees: Training and watchkeeping, Stability, loadlines and fishing vessel safety, Radiocommunications and search and rescue, Fire protection, Bulk liquids and gases, Flag State implementation and Ship design and equipment.

Members of the public may attend this meeting up to the seating capacity of the room. Interested persons may seek information by writing to Mr. Joseph J. Angelo, Commandant (G-MS), U.S. Coast Guard Headquarters, 2100 2nd Street, SW., Room 1218, Washington, DC 20593-0001 or by calling (202) 267-2970.

Dated: May 2, 2001.
Stephen Miller,
Executive Secretary, Shipping Coordinating Committee U.S. Department of State.

[FR Doc. 01-11956 Filed 5-10-01; 8:45 am]

BILLING CODE 4710-07-P